SECURITIES AND EXCHANGE COMMISSION

[Release No. 34-55875; File No. SR-Amex-2006-17]

Self-Regulatory Organizations; American Stock Exchange LLC; Order Granting Accelerated Approval of a Proposed Rule Change, as Modified by Amendment Nos. 1, 2, 3, and 4 Thereto, Relating to Procedures for At-Risk Cross Transactions

Correction

In notice document E7-11367 beginning on page 32687 in the issue of Wednesday, June 13, 2007, make the following correction:

On page 32687, in the first column, the docket number should read as set forth above.

[FR Doc. Z7-11367 Filed 6-28-07; 8:45 am]

BILLING CODE 1505-01-D

DEPARTMENT OF LABOR

Employee Benefits Security Administration

[Prohibited Transaction Exemption 2007-04; Exemption Application Nos. D-11345, and D-11370]

Grant of Individual Exemptions Involving; D-11342, Mellon Financial Corporation (Mellon); and D-11370, Amendment to Prohibited Exemption (PTE) 2000-58 and (PTE) 2002-41 Involving Bear Stearns & Co. Inc., Prudential Securities Incorporated, et al. to add Dominion Bond Rating Service Limited and Dominion Bond Rating Service, Inc.

Correction

In notice document E7-4982 beginning on page 13126 in the issue of Tuesday, March 20, 2007, make the following correction:

On page 13128, the table is being reprinted to read as follows:

[FR Doc. Z7-4982 Filed 6-28-07; 8:45 am]

BILLING CODE 1505-01-D